DEPARTMENT OF COMMERCE

National Oceanic and Atmospheric Administration

[RTID 0648-XA775]

Western Pacific Fishery Management Council; Public Meeting

AGENCY: National Marine Fisheries Service (NMFS), National Oceanic and Atmospheric Administration (NOAA), Commerce.

ACTION: Notice of a public meeting.

SUMMARY: The Western Pacific Fishery Management Council (Council) will hold an Intersessional Fisher Data Collection and Research Committee (FDCRC) meeting to discuss and make recommendations on fishery data collection and management issues in the Western Pacific Region.

DATES: The FDCRC will meet on Thursday, January 21, 2021, between 1 p.m. and 5 p.m., Hawaii Standard Time. For specific times and agendas, see SUPPLEMENTARY INFORMATION.

ADDRESSES: The meeting will be held by web conference via WebEx. Audio and visual portions for all of the web conferences can be accessed at: https://wprfmc.webex.com/wprfmc/onstage/g.php?MTID=e3e70e10f64290c1a9428b8175c2627d2. Web conference access information and instructions for providing public comments will be posted on the Council website at www.wpcouncil.org. For assistance with the web conference connection, contact the Council office at (808) 552-8220.

FOR FURTHER INFORMATION CONTACT: Kitty M. Simonds, Executive Director, Western Pacific Fishery Management Council; telephone: (808) 522-8220.

SUPPLEMENTARY INFORMATION:

The Intersessional FDCRC meeting will be held on January 21, 2021, from 1 p.m. to 5 p.m. Hawaii Standard Time (HST) (noon to 4 p.m. Samoa Standard Time (SST); 9 a.m. to 1 p.m. on January 22, 2021, Chamorro Standard Time (ChST)). Opportunities to present oral public comment will be provided at the end of the agenda. The order of the agenda may change, and will be announced in advance at the meetings. The meetings may run past the scheduled times noted above to complete scheduled business.

Schedule and Agenda for the APT Meeting

Thursday, January 21, 2021, 1 p.m.-5 p.m.

1. Welcome remarks and introductions

2. Round robin updates on impacts of COVID on data collection

3. Data collection improvement updates

A. Status of mandatory license and reporting regulations development and implementation

1. Guam

2. Commonwealth of the Northern Mariana Islands

3. American Samoa

B. Implementation of the Catchit-Logit electronic reporting

C. Pacific Island Fishery Science Center fishery-dependent data collection improvements

4. Discussion on addressing the 2019 Pacific Islands Fishery Monitoring and Assessment Planning Summit recommendations

A. Moving towards electronic self-reporting

B. Moving creel surveys to Marine Recreational Information Program

C. Moving towards electronic technologies for the market sampling

D. Improved data collection coordination and effective outreach and communication

5. Strategic planning session for the FDCRC Technical Committee

6. Public Comment

7. Other business

8. Discussions and recommendations

Special Accommodations

This meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: January 4, 2021.
Rey Israel Marquez,
Acting Deputy Director, Office of Sustainable Fisheries, National Marine Fisheries Service.

[FR Doc. 2021-00049 Filed 1-6-21; 8:45 am]

BILLING CODE 3510-22-P